COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add products and a service to the Procurement List that will be furnished by nonprofit agencies employing persons who are blind or have other severe disabilities.

DATES: Comments Must be Received on Or Before: 9/23/2013.

ADDRESSES: Committee for Purchase From People Who Are Blind or Severely Disabled, 1401 S. Clark Street, Suite 10800, Arlington, Virginia, 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: MR 10635—Serving Platter, Heavy Duty, Raised Surface, Fall Themed, White

NSN: MR 382—Duct Tape, Holiday Themed, Assorted Colors

NSN: MR 377—Socks, Holiday

NPA: Winston-Salem Industries for the Blind, Inc., Winston-Salem, NC

Contracting Activity: Defense Commissary Agency, Fort Lee, VA

Coverage: C-List for the requirements of military commissaries and exchanges as aggregated by the Defense Commissary Agency.

Service

Service Type/Location: Janitorial Service, US Fish and Wildlife Service, Rocky Mountain Arsenal National Wildlife Refuge, 6550 Gateway Road, Commerce City, CO.

NPA: North Metro Community Services for Developmentally Disabled, Westminster, CO

Contracting Activity: Dept of the Interior, U.S. Fish and Wildlife Service, Contracting and General Services DIV, Denver, CO

Barry S. Lineback,
Director, Business Operations.

[FR Doc. 2013-20625 Filed 8-22-13; 8:45 am]

BILLING CODE 6353-01-P